DEPARTMENT OF TRANSPORTATION

Federal Aviation Administration

14 CFR Part 39

[Docket No. FAA-2009-0522; Directorate Identifier 2008-NM-127-AD; Amendment 39-16010; AD 2009-18-14]

RIN 2120-AA64

Airworthiness Directives; 328 Support Services GmbH Dornier Model 328-100 and -300 Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

* * * A number of * * * rudder spring tab lever assemblies [of the rudder] were found cracked.

This condition, if not corrected, could lead to failure of the rudder flight control system and consequent loss of control of the aircraft. * * *

* * * * *

We are issuing this AD to require actions to correct the unsafe condition on these products.

DATES: This AD becomes effective October 14, 2009.

The Director of the Federal Register approved the incorporation by reference of certain publications listed in this AD as of October 14, 2009.

On June 9, 2004 (69 FR 24953, May 5, 2004), the Director of the Federal Register approved the incorporation by reference of certain other publications listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on June 9, 2009 (74 FR 27257), and proposed to supersede AD 2004-09-16, Amendment 39-13605 (69 FR 24953, May 5, 2004). (A correction of that AD was published in the Federal Register on May 12, 2004 (69 FR 26434)). That NPRM proposed to correct an unsafe condition for the specified products. The MCAI states:

On 14 March 2002, an incident occurred with a Dornier 328-100 where the captain reported that the rudder was unresponsive. The aircraft landed without any further difficulties. A visual inspection of the rudder assembly was carried out and the spring tab assembly was found to be cracked and partially missing. During subsequent inspections of other aircraft, a number of additional rudder spring tab lever assemblies were found cracked.

This condition, if not corrected, could lead to failure of the rudder flight control system and consequent loss of control of the aircraft. To address and correct this unsafe condition, LBA (Luftfahrt-Bundesamt) issued AD 2003-383 and 2003-384 [which correspond to FAA AD 2004-09-16] for the Dornier 328-100 and 328-300 respectively, to require the initial and repetitive inspection of the rudder spring tab lever assembly and, in case cracks were found, the replacement of the rudder spring tab lever assembly with a serviceable unit.

The current TC (type certificate) holder of this type design, 328 Support Services GmbH, has recently published Alert Service Bulletin ASB-328-27-036, Revision 2, which reduces the inspection interval to A-check [400 FH] (400 flight hours). In addition, Service Bulletin SB-328-27-459 was revised to change the compliance status from `optional' to `mandatory' and instructs operators to replace the rudder spring tab lever assembly with an improved unit P/N (part number) 001A272A4020-004, ending the need for the repetitive inspections.

For the reasons described above, this EASA AD retains the repetitive inspection requirements of LBA AD 2003-383, which is superseded, expands the applicability to all serial numbers, reduces the inspection interval to 400 [flight hours], and requires the replacement of the rudder spring tab lever assembly with an improved unit P/N 001A272A4020-004, as specified in SB-328-27-459.

The material used for the rudder spring tab lever assemblies on Model 328-100 airplanes differs from the material used for the rudder spring tab lever assemblies on Model 328-300 airplanes. Therefore, Model 328-300 airplanes are not affected by the new requirements in this AD. You may obtain further information by examining the MCAI in the AD docket.

Comments

We gave the public the opportunity to participate in developing this AD. We received no comments on the NPRM or on the determination of the cost to the public.

Explanation of Change to Final Rule

This AD does not require reporting crack findings to the manufacturer. Therefore, we have removed paragraph (m)(3) of the proposed AD because the reporting requirements information in that paragraph is not necessary.

Conclusion

We reviewed the available data, and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

Based on the service information, we estimate that this AD affects about 112 products of U.S. registry.

The actions that are required by AD 2004-09-16 and retained in this AD affect 112 products of U.S. registry and take 1 work-hour per product, at an average labor rate of $80 per work-hour. Based on these figures, the estimated cost of the currently required actions is $8,960, or $80 per product, per inspection cycle.

We estimate that it will take 3 work-hours per product to comply with the new basic requirements of this AD and it will affect 16 products of U.S. registry. The average labor rate is $80 per work-hour. Required parts will cost about $12,861 per product. Where the service information lists required parts costs that are covered under warranty, we have assumed that there will be no charge for these costs. As we do not control warranty coverage for affected parties, some parties may incur costs higher than estimated here. Based on these figures, we estimate the cost of the AD on U.S. operators to be $209,616, or $13,101 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13605 (69 FR 24953, May 5, 2004), and adding the following new AD:

2009-18-14 328 Support Services GmbH (Formerly, AvCraft Aerospace GmbH, formerly Fairchild Dornier GmbH, formerly Dornier Luftfahrt GmbH): Amendment 39-16010. Docket No. FAA-2009-0522; Directorate Identifier 2008-NM-127-AD.

Effective Date

(a) This airworthiness directive (AD) becomes effective October 14, 2009.

Affected ADs

(b) This AD supersedes AD 2004-09-16, Amendment 39-13605.

Applicability

(c) This AD applies to 328 Support Services GmbH Dornier Model 328-100 airplanes on which a rudder spring tab lever assembly having part number 001A272A4020-002 is installed, and all Model 328-300 airplanes.

Subject

(d) Air Transport Association (ATA) of America Code 27: Flight controls.

Reason

(e) The mandatory continuing airworthiness information (MCAI) states:

On 14 March 2002, an incident occurred with a Dornier 328-100 where the captain reported that the rudder was unresponsive. The aircraft landed without any further difficulties. A visual inspection of the rudder assembly was carried out and the spring tab assembly was found to be cracked and partially missing. During subsequent inspections of other aircraft, a number of additional rudder spring tab lever assemblies were found cracked.

This condition, if not corrected, could lead to failure of the rudder flight control system and consequent loss of control of the aircraft. To address and correct this unsafe condition, LBA (Luftfahrt-Bundesamt) issued AD 2003-383 and 2003-384 [which correspond to FAA AD 2004-09-16] for the Dornier 328-100 and 328-300 respectively, to require the initial and repetitive inspection of the rudder spring tab lever assembly and, in case cracks were found, the replacement of the rudder spring tab lever assembly with a serviceable unit.

The current TC (type certificate) holder of this type design, 328 Support Services GmbH, has recently published Alert Service Bulletin ASB-328-27-036, Revision 2, which reduces the inspection interval to A-check [400 FH] (400 flight hours). In addition, Service Bulletin SB-328-27-459 was revised to change the compliance status from `optional' to `mandatory' and instructs operators to replace the rudder spring tab lever assembly with an improved unit P/N (part number) 001A272A4020-004, ending the need for the repetitive inspections.

For the reasons described above, this EASA AD retains the repetitive inspection requirements of LBA AD 2003-383, which is superseded, expands the applicability to all serial numbers, reduces the inspection interval to 400 [flight hours], and requires the replacement of the rudder spring tab lever assembly with an improved unit P/N 001A272A4020-004, as specified in SB-328-27-459.

Compliance

(f) Required as indicated, unless accomplished previously.

Restatement of Requirements of AD 2004-09-16, Including Repetitive Inspections With Reduced Intervals for Model 328-100 Airplanes

(g) For all airplanes: Within 400 flight hours or 2 months after June 9, 2004 (the effective date of AD 2004-09-16), whichever is first; do detailed and eddy current inspections for cracking of the bearing lugs of the rudder spring tab lever assembly by doing all the actions per Paragraphs 2.A., 2.B., and 2.D. of the Accomplishment Instructions of Dornier Alert Service Bulletin ASB-328-27-036 (for Model 328-100 airplanes), dated February 12, 2003, or Revision 3, dated February 8, 2008; or Dornier Alert Service Bulletin ASB-328J-27-013 (for Model 328-300 airplanes), dated February 12, 2003; as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) For Model 328-100 airplanes: If no cracking is found during any inspection required by paragraph (g) of this AD, do the next inspection within 400 flight hours after doing the last inspection, or within 400 flight hours after the effective date of this AD, whichever occurs later; and repeat the inspection thereafter at intervals not to exceed 400 flight hours. Repeat the inspections until the replacement required by paragraph (k) of this AD has been done.

(2) For Model 328-300 airplanes: If no cracking is found during any inspection required by paragraph (g) of this AD, repeat the inspections thereafter at intervals not to exceed 24 months.

Corrective Action

(h) For all airplanes: If any cracking is found during any inspection required by paragraph (g) of this AD, do the applicable actions specified in paragraph (h)(1) or (h)(2) of this AD.

(1) For Model 328-100 airplanes: Before further flight, do the replacement required by paragraph (k) of this AD, or replace the spring tab lever assembly with a new assembly by doing all the actions per Paragraph 2.C. of the Accomplishment Instructions of Dornier Alert Service Bulletin ASB-328-27-036, dated February 12, 2003; or Revision 3, dated February 8, 2008.

(2) For Model 328-300 airplanes: Before further flight, replace the spring tab lever assembly with a new assembly by doing all the actions per Paragraph 2.C. of the Accomplishment Instructions of Dornier Alert Service Bulletin ASB-328J-27-013, dated February 12, 2003. Repeat the inspections required by paragraph (g) of this AD thereafter at intervals not to exceed 24 months.

Note 2: For Model 328-300 airplanes: There is no terminating action available for the repetitive inspections required by this AD.

(i) Dornier Alert Service Bulletins ASB-328-27-036, dated February 12, 2003, and Revision 3, dated February 8, 2008; and ASB-328J-27-013, dated February 12, 2003; recommend reporting crack findings and returning damaged lever assemblies to the manufacturer, but this AD does not contain such requirements.

New Requirements of This AD: Actions and Compliance

(j) For Model 328-100 airplanes: As of the effective date of this AD, Dornier Alert Service Bulletin ASB-328-27-036, Revision 3, dated February 8, 2008, must be used for accomplishing the inspections and corrective actions required by paragraphs (g) and (h) of this AD.

(k) For Model 328-100 airplanes: Within 6 months after the effective date of this AD, replace any rudder spring tab lever assembly having P/N 001A272A4020-002 with an improved unit having P/N 001A272A4020-004, in accordance with the Accomplishment Instructions of Dornier Service Bulletin SB-328-27-459, Revision 2, dated February 8, 2008. Accomplishment of the replacement required by this paragraph terminates the repetitive inspections required by paragraph (g)(1) of this AD.

(l) Actions done before the effective date of this AD in accordance with Dornier Service Bulletin SB-328-27-459, dated May 3, 2004; or Revision 1, dated January 24, 2008; are acceptable for compliance with the corresponding requirements of this AD for Model 328-100 airplanes. Actions done before the effective date of this AD in accordance with Dornier Alert Service Bulletin ASB-328-27-036, Revision 1, dated May 7, 2004; or Revision 2, dated January 24, 2008; are acceptable for compliance with the corresponding requirements of this AD for Model 328-300 airplanes.

FAA AD Differences

Note 3: This AD differs from the MCAI and/or service information as follows: No differences.

Other FAA AD Provisions

(m) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, FAA, Transport Airplane Directorate, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(n) Refer to MCAI European Aviation Safety Agency Airworthiness Directive 2008-0107, dated June 23, 2008; German Airworthiness Directive 2003-384, dated November 13, 2003; and the service information contained in Table 1 of this AD, for related information.

Table 1—Related Service Information
Document | Revision | Date
Dornier Alert Service Bulletin ASB-328-27-036 | 3 | February 8, 2008.
Dornier Alert Service Bulletin ASB-328J-27-013 | Original | February 12, 2003.
Dornier Service Bulletin SB-328-27-459 | 2 | February 8, 2008.

Material Incorporated by Reference

(o) You must use the applicable service information contained in Table 2 of this AD to do the actions required by this AD, unless the AD specifies otherwise. (The issue date of Dornier Alert Service Bulletin ASB-328-27-036, Revision 3, dated February 8, 2008; and Dornier Service Bulletin SB-328-27-459, Revision 2, dated February 8, 2008; is specified only on the odd-numbered pages of these documents.)

Table 2—Material Incorporated by Reference
Document | Revision | Date
Dornier Alert Service Bulletin ASB-328-27-036 | 3 | February 8, 2008.
Dornier Alert Service Bulletin ASB-328J-27-013 | Original | February 12, 2003.
Dornier Service Bulletin SB-328-27-459 | 2 | February 8, 2008.

(1) The Director of the Federal Register approved the incorporation by reference of Dornier Alert Service Bulletin ASB-328-27-036, Revision 3, dated February 8, 2008; and Dornier Service Bulletin SB-328-27-459, Revision 2, dated February 8, 2008; under 5 U.S.C. 552(a) and 1 CFR part 51.

(2) The Director of the Federal Register previously approved the incorporation by reference of the Dornier Alert Service Bulletin ASB-328J-27-013, dated February 12, 2003, on June 9, 2004 (69 FR 24953, May 5, 2004).

(3) For service information identified in this AD, contact 328 Support Services GmbH, Global Support Center, P.O. Box 1252, D-82231 Wessling, Federal Republic of Germany; telephone +49 8153 88111 6666; fax +49 8153 88111 6565; e-mail gsc.op@328support.de; Internet http://www.328support.de.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on August 24, 2009.
Ali Bahrami,
Manager, Transport Airplane Directorate, Aircraft Certification Service.

[FR Doc. E9-21035 Filed 9-8-09; 8:45 am]

BILLING CODE 4910-13-P